DEPARTMENT OF THE INTERIOR

Fish and Wildlife Service

[FWS-R8-ES-2016-N166; FF08ESMF00-FXES11120800000-156]

Proposed Bakersfield Habitat Conservation Plan/Natural Community Conservation Plan, California; Scoping for Environmental Impact Statement

AGENCY: Fish and Wildlife Service, Interior.

ACTION: Notice of intent; notice of public scoping meeting; request for comments.

SUMMARY: Under the National Environmental Policy Act, we, the U.S. Fish and Wildlife Service, intend to prepare a draft environmental impact statement (EIS) for the proposed habitat conservation plan/natural community conservation plan for the City of Bakersfield, hereafter referred to as the Bakersfield Habitat Conservation Plan (BHCP). The BHCP will streamline and coordinate existing processes for review and permitting of public and private activities that potentially affect covered species, while providing long-term conservation of covered species in the plan area. The draft EIS is being prepared under the Endangered Species Act of 1973, as amended, and the California Natural Community Conservation Planning Act. We announce meetings and invite comments.

DATES:

Submitting Comments: To ensure consideration, please send your written comments by February 21, 2017.

Public Meeting: A public scoping meeting will be held on Tuesday, January 24, 2017: From 5 p.m. to 7 p.m. The meeting will take place in the 3rd floor conference room, City of Bakersfield Community Development Department, 1715 Chester Avenue, Bakersfield, CA 93301.

ADDRESSES: To request further information or submit written comments, please use one of the following methods, and note that your information request or comment is in reference to the Bakersfield Habitat Conservation Plan:

• U.S. Mail: U.S. Fish and Wildlife Service, Sacramento Fish and Wildlife Office, 2800 Cottage Way, Room W-2605, Sacramento, CA 95825.

• In-Person Drop-Off, Viewing, or Pickup: Call (916) 414-6600 to make an appointment during regular business hours to drop off comments or view received comments at the above location.

• Fax: U.S. Fish and Wildlife Service, (916) 414-6713, Attn.: Thomas Leeman.

FOR FURTHER INFORMATION CONTACT: Justin Sloan, Senior Biologist, or Thomas Leeman, Chief, San Joaquin Valley Division, Sacramento Fish and Wildlife Office, by phone at (916) 414-6600 or by U.S. mail at the above address. If you use a telecommunications device for the deaf, please call the Federal Information Relay Service at (800) 877-8339.

SUPPLEMENTARY INFORMATION:

Introduction

We, the U.S. Fish and Wildlife Service (Service), intend to prepare a draft environmental impact statement (EIS) to evaluate the impacts of several alternatives related to the potential issuance of an incidental take permit (ITP), as well as impacts of the implementation of the supporting proposed habitat conservation plan/natural community conservation plan, which we will refer to as the Bakersfield Habitat Conservation Plan (BHCP). The EIS will be a joint EIS/environmental impact report (EIS/EIR), for which the Service, City of Bakersfield, and the California Department of Fish and Wildlife (CDFW) intend to gather information necessary for preparation.

The BHCP is designed to be a comprehensive regional plan that will provide long-term conservation and management of natural communities, sensitive species, and the habitats upon which those species depend, while accommodating other important uses of the land. It is intended to serve as a habitat conservation plan pursuant to the Endangered Species Act of 1973, as amended (16 U.S.C. 1531 et seq.; Act), and as a natural community conservation plan under the California Natural Community Conservation Planning Act.

The BHCP will address State and Federal endangered species compliance requirements for the City of Bakersfield, Kern County, California State University-Bakersfield, Bakersfield College, and individual school districts within the BHCP plan area. The plan area generally includes the San Joaquin Valley floor portion of Kern County. The permit applicants are currently preparing a complete draft of the BHCP as an HCP/NCCP, and the permitting agencies (Service and CDFW) are assisting and will be proceeding with agency review and finalization in the coming months. The permit applicants intend to apply for a 30-year incidental take permit (ITP) from the Service. The permittees are seeking authorized incidental take of threatened and endangered species that could result from activities covered under the BHCP. We announce meetings and invite comments.

The Service will serve as the administrative lead for all actions related to this Federal Register notice for the EIS component of the EIS/EIR. The City of Bakersfield will serve as the State lead agency under the California Environmental Quality Act (CEQA) for the EIR component. The City of Bakersfield, in accordance with CEQA, is publishing a similar notice.

Project Summary

The plan is being prepared under the combined efforts of the City of Bakersfield and the U.S. Fish and Wildlife Service, in coordination with Kern County and the CDFW. The BHCP will streamline and coordinate existing processes for review and permitting of public and private activities that potentially affect covered species (see Covered Species), while providing long-term conservation of covered species in the plan area.

To meet this goal, the BHCP sets out a conservation strategy that includes measures to ensure that impacts to covered species and habitats related to covered activities (see Covered Activities) are avoided, minimized, and/or mitigated, as appropriate. These covered activities encompass the range of existing and future activities that the City, County, private developers, or other permittees will implement within the permit area. These activities include urban and rural development and a variety of road, water, and other needed public infrastructure, construction, and maintenance activities. The BHCP is further intended to facilitate the role and responsibility of local government in overseeing local land use planning and decision-making while protecting endangered species in the area.

Background

Section 9 of the Act (16 U.S.C. 1531 et seq.) prohibits the “take” of wildlife species listed as endangered or threatened. The Act defines the term “take” as to harass, harm, pursue, hunt, shoot, wound, kill, trap, capture, or collect listed species, or to attempt to engage in such conduct (16 U.S.C. 1532). Harm includes significant habitat modifications or degradation that actually kill or injure listed wildlife by significantly impairing essential behavioral patterns, including breeding, feeding, and sheltering (50 CFR 17.3(c)). Pursuant to section 10(a)(1)(B) of the Act, we may issue permits to authorize “incidental take” of listed species. “Incidental take” is defined by the Act as take that is incidental to, and not the purpose of, carrying out an otherwise lawful activity. Service regulations governing permits for threatened species and endangered species, respectively, are promulgated in 50 CFR 17.22 and 17.32.

Section 10(a)(1)(B) of the Act contains provisions for issuing such ITPs to non-Federal entities for the take of endangered and threatened species, provided the following criteria are met:

• The take will be incidental;

• The applicants will, to the maximum extent practicable, minimize and mitigate the impact of such taking;

• The applicants will develop a proposed HCP and ensure that adequate funding for the plan will be provided;

• The taking will not appreciably reduce the likelihood of the survival and recovery of the species in the wild; and

• The applicants will carry out any other measures that the Service may require as being necessary or appropriate for the purposes of the HCP.

Thus, the purpose of issuing an ITP is to allow the applicants, under their respective regional authority, to authorize development while conserving the covered species and their habitat. Implementation of a multispecies HCP, rather than a species-by-species or project-by-project approach, will maximize the benefits of conservation measures for covered species and eliminate expensive and time-consuming efforts associated with processing individual ITPs for each project within the applicants' proposed plan area. The Service expects that the permit applicants will request ITP coverage for a period of 30 years.

Plan Area

The plan area proposed is 2,259,627 acres, or 3,530 square miles. This plan area was developed to ensure that the natural resources that might be affected by covered activities can be adequately assessed at a regional scale and that sufficient mitigation opportunities are available.

The northern boundary of the study area is defined by the Kern County border with Tulare and Kings Counties. The boundary encompasses land acquisition opportunities near existing protected areas on the southern San Joaquin Valley floor (e.g., Buttonwillow Ecological Reserve, Semitropic Ridge Natural Area, Kern National Wildlife Refuge (NWR), Allensworth Ecological Reserve, and Pixley NWR). The western boundary of the study area runs along the shared border of Kern County and San Luis Obispo County. The southwestern boundary of the study area extends to the boundary with San Luis Obispo, Santa Barbara and Ventura Counties. The southern and southeastern boundary then follows the northern boundary of the Tehachapi Uplands Multi-Species HCP, which covers most of Tejon Ranch. The eastern boundary follows the ecological boundary between annual grassland of the San Joaquin Valley and oak woodlands.

Covered Activities

Covered activities include projects or ongoing activities that will receive incidental take authorization by the ESA and NCCP permits. Covered activities in the BHCP fall into eight general categories:

1. Urban development;

2. Transportation and circulation infrastructure;

3. Flood control;

4. Sewer and water treatment facilities;

5. Landfills;

6. Airports;

7. Conservation strategy implementation; and

8. Operations and maintenance activities in urban areas

Covered Species

Covered species are those species addressed in the proposed BHCP for which conservation actions will be implemented and for which the permit applicants will seek incidental take authorizations for a period of up to 30 years. Proposed covered species are expected to include threatened and endangered species listed under the Act, species listed under the CESA, and currently unlisted species that have the potential to become listed during the life of the BHCP and have some likelihood to occur within the BHCP plan area. The plan proposes coverage for 14 listed and non-listed species, which include 8 animal species and 6 plant species. These covered species are expected to be named on the ESA (Section 10) and NCCP Act (Section 2035) permits. The BHCP will provide long-term conservation and management of these species. The 14 covered species were identified on the basis of an initial assessment of the effect of covered activities and conservation measures on 183 species that are listed or that could become listed during the permit term in the study area. The list of proposed covered species may change as the planning process progresses; species may be added or removed as more is learned about the nature of covered activities and their impact within the plan area.

The following federally listed endangered wildlife species are proposed to be covered by the BHCP: Blunt-nosed leopard lizard (Gambelia silus), least Bell's vireo (Vireo bellii pusillus), Buena Vista Lake shrew (Sorex ornatus relictus), Tipton kangaroo rat (Dipodomys nitratoides nitratoides), and San Joaquin kit fox (Vulpes macrotis mutica).

The following unlisted wildlife species are proposed to be covered by the BHCP: Swainson's hawk (Buteo swainsoni), western burrowing owl (Athene cunicularia hypugaea), and San Joaquin antelope squirrel (Ammospermophilus nelsoni).

Take as defined under the Act does not apply to listed plant species, and therefore cannot be authorized under a section 10 permit. However, the permit applicants propose to include plant species on the permit in recognition of the conservation benefits provided for them under an HCP. For the purposes of the plan, certain plant species are further included to meet regulatory obligations under section 7 of the Act and CESA. All species included on an ITP would receive assurances under the Service's “No Surprises” regulations found in 50 CFR 17.22(b)(5) and 17.32(b)(5). The federally listed endangered San Joaquin woollythreads (Monolopia congdonii) and Bakersfield cactus (Opuntia treleasei) are proposed for inclusion in the BHCP in recognition of the conservation benefits provided for them under the BHCP. The following unlisted plant species are proposed for inclusion in the BHCP in recognition of the conservation benefits provided for them under the BHCP and the assurances permit holders would receive if they are included on a permit: Alkali mariposa-lily (Calochortus striatus), rose-flowered larkspur (Delphinium purpusii), recurved larkspur (Delphinium recurvatum), and Shevock's golden-aster (Heterotheca shevockii).

Environmental Impact Statement

Before deciding whether to issue the requested Federal ITP, the Service will prepare a draft EIS in order to analyze the environmental impacts associated with issuance of the ITP. In the EIS component of the EIS/EIR, the Service will consider the following alternatives: (1) The proposed action, which includes the issuance of take authorizations consistent with the proposed BHCP under section 10(a)(1)(B) of the Act; (2) no action (no permit issuance); and (3) a reasonable range of additional alternatives. The EIS/EIR will include a detailed analysis of the impacts of the proposed action and alternatives. The range of alternatives could include variations in impacts, conservation, permit duration, Covered Species, Covered Activities, Permit Area, or a combination of these elements.

The EIS/EIR will identify and analyze potentially significant direct, indirect, and cumulative impacts of our authorization of incidental take (permit issuance) and the implementation of the proposed BHCP on biological resources, land uses, utilities, air quality, water resources, cultural resources, socioeconomics and environmental justice, recreation, aesthetics, climate change and greenhouse gases, and other environmental issues that could occur with implementation of each alternative. The Service will also identify measures to avoid or minimize any significant effects of the proposed action on the quality of the human environment.

Following completion of the environmental review, the Service will publish a notice of availability and a request for comment on the draft EIS/EIR and the applicants' permit application, which will include the proposed the BHCP.

Request for Public Comments

We request data, comments, new information, or suggestions from the public, other concerned governmental agencies, the scientific community, Tribes, industry, or any other interested party on this notice. We will consider these comments in developing a draft EIS/EIR and in the development of an HCP and ITP. We particularly seek comments on the following:

1. Biological information concerning species in the proposed plan area;

2. Relevant data concerning these species;

3. Additional information concerning the range, distribution, population size, and population trends of the species;

4. Current or planned activities in the subject area and their possible impacts on the species;

5. The presence of archaeological sites, buildings and structures, historic events, sacred and traditional areas, and other historic preservation concerns, which are required to be considered in project planning by the National Historic Preservation Act; and

6. Identification of any other environmental issues that should be considered with regard to the proposed development and permit action.

You may submit your comments and materials by one of the methods listed in the ADDRESSES section.

Public Availability of Comments

Comments and materials we receive become part of the public record associated with this action; they will be available for public inspection by appointment during normal business hours (Monday through Friday, 8 a.m. to 4:30 p.m.) at the Service's Sacramento address (see ADDRESSES). Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials of organizations or businesses, will be made available for public disclosure in their entirety.

Scoping Meetings

See DATES for the date and time of the scheduled public meeting. The purpose of the scoping meeting is to provide the public with a general understanding of the background of the proposed HCP and activities it would cover, alternative proposals under consideration for the draft EIS, and the Service's role and steps to be taken to develop the draft EIS for the proposed HCP/NCCP.

The primary purpose of these meetings and public comment period is to solicit suggestions and information on the scope of issues and alternatives for the Service to consider when drafting the EIS. Written comments will be accepted at the meeting. Comments can also be submitted by methods listed in the ADDRESSES section. Once the draft EIS and proposed HCP/NCCP are complete and made available for review, there will be additional opportunity for public comment on the content of these documents through additional public comment periods.

Meeting Location Accommodations

Persons needing reasonable accommodations in order to attend and participate in the public meetings should contact Thomas Leeman at (916) 414-6600 as soon as possible. In order to allow sufficient time to process requests, please call at least one week before the public meeting. Information regarding this proposed action is available in alternative formats upon request.

Authority

We publish this notice under the National Environmental Policy Act (42 U.S.C. 4321 et seq.) and its implementing regulations (40 CFR 1501.7, 1506.6, and 1508.22), as well as in compliance with section 10(c) of the Act (16 U.S.C. 1531 et seq.).

Dated: December 29, 2016.
Alexandra Pitts,
Deputy Regional Director, U.S. Fish and Wildlife Service, Pacific Southwest Region, Sacramento, California.

[FR Doc. 2017-00002 Filed 1-5-17; 8:45 am]

BILLING CODE 4333-15-P